DEPARTMENT OF THE INTERIOR

Bureau of Land Management

[WO220000.L10300000.PH0000; WO2200000.L63100000.PH0000; OMB Control Number 1004-0001]

Agency Information Collection Activities; Vegetative and Minerals Materials

AGENCY: Bureau of Land Management, Interior.

ACTION: Notice of information collection; request for comment.

SUMMARY: In accordance with the Paperwork Reduction Act of 1995, we, the Bureau of Land Management (BLM), are proposing to renew an information collection.

DATES: Interested persons are invited to submit comments on or before August 12, 2019.

ADDRESSES: Send your comments on this information collection request (ICR) by mail to the U.S. Department of the Interior, Bureau of Land Management, 1849 C Street NW, Room 2134LM, Washington, DC 20240, Attention: Jean Sonneman; or by email to jsonneman@blm.gov. Please reference OMB Control Number 1004-0001 in the subject line of your comments.

FOR FURTHER INFORMATION CONTACT: To request additional information about this ICR, contact Chris Schumacher by email [c1schuma@blm.gov], or by telephone at 202-912-7433 (vegetative materials); or Timothy Barnes by email [tbarnes@blm.gov], or by telephone at 202-912-7118 (mineral materials).

SUPPLEMENTARY INFORMATION: In accordance with the Paperwork Reduction Act of 1995, we provide the public and other Federal agencies with an opportunity to comment on new, proposed, revised, and continuing collections of information. This helps us assess the impact of our information collection requirements and minimize the public's reporting burden. It also helps the public understand our information collection requirements and provide the requested data in the desired format.

We are soliciting comments on the proposed ICR that is described below. We are especially interested in public comment addressing the following issues: (1) Is the collection necessary to the proper functions of the BLM; (2) will this information be processed and used in a timely manner; (3) is the estimate of burden accurate; (4) how might the BLM enhance the quality, utility, and clarity of the information to be collected; and (5) how might the BLM minimize the burden of this collection on the respondents, including through the use of information technology.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

The following information pertains to this request:

Abstract: Control Number 1004-0001 authorizes the BLM to collect information to continue the use of separate permit forms for the free use of vegetative materials and mineral materials.

Title of Collection: Free Use Application and Permit for Vegetative or Mineral Materials (43 CFR parts 3600, 3620, and 5510).

OMB Control Number: 1004-0001.

Form Numbers:

• 3604-1, Free Use Application and Permit for Mineral Materials; and

• 5510-1, Free Use Application and Permit for Vegetative Materials.

Type of Review: Extension of a currently approved collection.

Respondents/Affected Public: Individuals seeking authorization for free use of mineral or vegetative materials.

Total Estimated Number of Annual Respondents: 133 mineral materials applications; and 80 vegetative material applications.

Total Estimated Number of Annual Responses: 133 mineral material applications; and 80 vegetative material applications.

Estimated Completion Time per Response: 26 minutes per response for mineral materials; 30 minutes per response for vegetative materials.

Total Estimated Number of Annual Burden Hours: 58.5 burden hours for mineral materials; and 40 burden hours for vegetative materials.

Respondent's Obligation: Required to obtain or retain a benefit.

Frequency of Collection: On occasion.

Total Estimated Annual Non-hour Burden Cost: None.

The estimated annual burdens of this collection are itemized below:

A. Type of response | B. Number of responses | C. Hours per response | D. Total hours (column B × column C)
Form 5510-1, Free Use Application and Permit for Vegetative Materials | 80 | 0.50 | 40
Form 3604-1, Free Use Application and Permit for Mineral Materials | 133 | 0.44 | 58.5
Totals | 213 |  | 98.5

An agency may not conduct or sponsor and a person is not required to respond to a collection of information unless it displays a currently valid OMB control number. The authority for this action is the Paperwork Reduction Act of 1995 (44 U.S.C. 3501 et seq).

Chandra Little,
Bureau of Land Management, Acting Information Collection Clearance Officer.

[FR Doc. 2019-12184 Filed 6-10-19; 8:45 am]

BILLING CODE 4310-84-P